DEPARTMENT OF AGRICULTURE

Animal and Plant Health Inspection Service

7 CFR Parts 305 and 319

[Docket No. APHIS-2007-0161]

RIN 0579-AC89

Importation of Longan From Taiwan

AGENCY: Animal and Plant Health Inspection Service, USDA.

ACTION: Proposed rule.

SUMMARY: We are proposing to allow the importation of commercial shipments of fresh longan with stems from Taiwan into the United States. As a condition of entry, the longan would be subject to cold treatment and special port-of-arrival inspection procedures for certain quarantine pests. In addition, the fruit would have to be accompanied by a phytosanitary certificate stating that the fruit was inspected and found to be free of certain pests, and the individual cartons or boxes in which the longan are shipped would have to be stamped or printed with a statement prohibiting their importation into or distribution in the State of Florida. This action would allow for the importation of commercial shipments of fresh longan with stems from Taiwan into the United States while continuing to provide protection against the introduction of quarantine pests into the United States.

DATES: We will consider all comments that we receive on or before January 6, 2009.

ADDRESSES: You may submit comments by either of the following methods:

• Federal eRulemaking Portal: Go to http://www.regulations.gov/fdmspublic/component/main?main=DocketDetail&d=APHIS-2007-0161 to submit or view comments and to view supporting and related materials available electronically.

• Postal Mail/Commercial Delivery: Please send two copies of your comment to Docket No. APHIS-2007-0161, Regulatory Analysis and Development, PPD, APHIS, Station 3A-03.8, 4700 River Road, Unit 118, Riverdale, MD 20737-1238. Please state that your comment refers to Docket No. APHIS-2007-0161.

Reading Room: You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: Mr. Alex Belano, Assistant Branch Chief, Commodity Import Analysis and Operations, PPQ, APHIS, 4700 River Road, Unit 140, Riverdale, MD 20737-1231; (301) 734-8758.

SUPPLEMENTARY INFORMATION:

Background

The regulations in “Subpart—Fruits and Vegetables” (7 CFR 319.56-1 through 319.56-47, referred to below as the regulations) prohibit or restrict the importation of fruits and vegetables into the United States from certain parts of the world to prevent the introduction and dissemination of plant pests that are new to or not widely distributed within the United States.

The Animal and Plant Health Inspection Service (APHIS) has received a request from the Government of Taiwan to allow the importation of fresh longan, Dimocarpus longan, with stems from Taiwan into the United States. As part of our evaluation of Taiwan's request, we prepared a pest risk assessment (PRA) and a risk management document (RMD). Copies of the PRA and the RMD may be obtained from the person listed under FOR FURTHER INFORMATION CONTACT and may be viewed on the Internet on the Regulations.gov Web site or in our reading room (see ADDRESSES above for a link to Regulations.gov and information on the location and hours of the reading room).

The PRA, titled “Evidence-Based, Pathway-Initiated Risk Assessment of the Importation of Fresh Longan, Dimocarpus longan Lour., from Taiwan into the United States” (November 2007), evaluates the risks associated with the importation of longan from Taiwan. As noted in that document, we identified 26 pests of quarantine significance present in Taiwan that could be introduced into the United States via longan. Of these 26 pests, the PRA identified 5 as having high unmitigated pest risk potential: The melon fruit fly (Bactrocera cucurbitae), the oriental fruit fly (B. dorsalis), the yellow peach moth (Conogethes punctiferalis), the macadamia nut borer (Cryptophlebia ombrodelta), and the cashew leaf thrips (Rhipiphorothrips cruentatus). The remaining 21 pests, which were identified as having medium unmitigated pest risk potential, were the litchi rust mite (Aceria litchii), the summer fruit tortrix moth (Adoxophyes orana), the litchi fruit borer (Conopomorpha sinensis), larvae of the dull cornelian butterfly (Deudorix epijarbas), 4 mealybugs (Maconellicoccus hirsutus, Nipaecoccus viridis, Planococcus lilacinus, and P. minor), and 13 scale insects (Aulacaspis tubercularis, Ceroplastes rubens, Coccus discrepans, C. formicarii, C. viridis, Drepanococcus chiton, Fiorinia pinicola, Icerya seychellarum, Kerria lacca, K. greeni, Pseudaonidia trilobitiformis, Pulvinaria taiwana, and Thysanofiorinia nephelii).

The risk management document considered the protections that would be afforded by compliance with the regulations, determined that they were appropriate to address the risks presented by some of the pests of concern, and suggested some additional mitigations to address the remaining identified risks. Based on those suggestions in the risk management document, we propose the following measures be applied to longan imported from Taiwan into the United States.

Commercial Consignments

Only commercial consignments of longan would be allowed to be imported from Taiwan. This condition would reduce the likelihood that longan will introduce injurious plant pests into the continental United States. Produce grown commercially is less likely to be infested with plant pests than noncommercial consignments. Noncommercial consignments are more prone to infestations because the commodity is often ripe to overripe, could be of a variety with unknown susceptibility to pests, and is often grown with little or no pest control. Commercial consignments, as defined in § 319.56-2, are consignments that an inspector identifies as having been imported for sale and distribution. Such identification is based on a variety of indicators, including, but not limited to: Quantity of produce, type of packaging, identification of grower or packinghouse on the packaging, and documents consigning the fruits or vegetables to a wholesaler or retailer.

Phytosanitary Certificate With Additional Declaration

Consignments of longan from Taiwan would also be required to be accompanied by a phytosanitary certificate of inspection and pest freedom issued by the national plant protection organization (NPPO) of Taiwan, with an additional declaration stating that the longan in the shipment had been inspected and found free of the yellow peach moth, macadamia nut borer, and cashew leaf thrips. This condition would require the NPPO of Taiwan to conduct phytosanitary inspections for all quarantine-significant pests.

Cold Treatment

We would require that the longan be subjected to cold treatment for melon fruit fly, oriental fruit fly, and litchi fruit borer using proposed APHIS treatment schedule T107-h, which would provide two options for conducting the cold treatment: An option in which the fruit is held at 33.8 °F or below for 17 days, and an option in which the fruit is held at 34.5 °F or below for 20 days.

This condition, in conjunction with other safeguards that would be required for longan from Taiwan, would reduce the likelihood that longan would introduce injurious plant pests into the continental United States. The proposed cold treatment schedule, conducted in accordance with § 305.15, has been determined to be an effective quarantine treatment for melon fruit fly, oriental fruit fly, and litchi fruit borer in longan.

The schedule listed for cold treatment T107-h in § 305.16 currently provides three options for conducting the cold treatment: An option in which the fruit is held at 33.4 °F or below for 13 days, an option in which the fruit is held at 33.8 °F or below for 15 days, and an option in which the fruit is held at 34.5 °F or below for 18 days. However, a review ¹ by APHIS has determined that there is not adequate scientific justification to conclude that the pests for which T107-h is an approved treatment will be neutralized if the option of holding the fruit at 33.4 °F or below for 13 days is used. Accordingly, we are proposing to remove this option from the cold treatment schedule in T107-h. Additionally, based on the recommendations in the review, we would extend by 2 days the treatment times required in the other options available for this cold treatment. Thus, the longan would have to be treated at 33.8 °F for 17 days or 34.5 °F for 20 days. For the same reasons, we are also proposing to revise the schedule listed for cold treatment T107-j in § 305.16 to replace the 13-day treatment option with a 15-day treatment option. However, we are not revising the 18-day treatment option for this schedule because T107-j is approved only for oriental fruit fly and the 18-day treatment option has been shown to be effective at neutralizing that pest.

¹ A copy of the treatment evaluation document may be obtained from the person listed under FOR FURTHER INFORMATION CONTACT and may be viewed on the Internet on the Regulations.gov Web site or in our reading room (see ADDRESSES above for a link to Regulations.gov and information on the location and hours of the reading room).

Special Inspection Procedures

Longan imported into the United States from Taiwan under this rule would be subject to special inspection procedures at the port of arrival for the quarantine pests yellow peach moth, macadamia nut borer, and cashew leaf thrips.

Specifically, a random sample of fruit from each consignment would be inspected to detect any pest infestation. The sampling would be conducted at a higher rate than normal to help ensure detection of the high-risk pests. The relatively large size of the yellow peach moth and the macadamia nut borer would allow for detection of these pests on commodities. Fruit damage caused by the cashew leaf thrips would also be visible during inspection. Port-of-arrival inspection in accordance with the special inspection procedures is also the approved mitigation for the medium-risk pests identified in the PRA other than the litchi rust mite.

Limited Distribution

Fresh longan from Taiwan would be prohibited from entering Florida. All individual cartons or boxes in which the longan were shipped must be stamped or marked with the following statement: “Not for importation into or distribution within FL.”

Longan shipments into the State of Florida would be prohibited due to the risk of introducing the litchi rust mite. This is consistent with other import programs in which shipments of litchis and longan are prohibited into Florida for the same pest. This condition would limit the risk of exotic pest establishment in areas of the United States where longan are grown.

To reflect our proposed addition of fresh longan with stems from Taiwan to the list of fruits and vegetables whose importation into the United States is authorized, we would add an entry for longan from Taiwan to the table of commodities enterable from foreign localities in § 305.2(h)(2)(i) of the phytosanitary treatments regulations, and we would designate proposed cold treatment schedule T107-h as an approved treatment for melon fruit fly, oriental fruit fly, and litchi fruit borer in longan from Taiwan. In addition, we would amend the table in § 319.56-13(a) of the regulations to add an entry for longan under Taiwan, indicating in that entry that the longan would be prohibited from entering Florida, could be imported in commercial shipments only, and would have to be treated with an approved treatment listed in 7 CFR part 305. Finally, we would add a new paragraph to § 319.56-13(b) to reflect the proposed requirement that each shipment of longan be accompanied by a phytosanitary certificate issued by the NPPO of Taiwan with an additional declaration stating that the longan are free of yellow peach moth, macadamia nut borer, and cashew leaf thrips.

Executive Order 12866 and Regulatory Flexibility Act

This proposed rule has been reviewed under Executive Order 12866. The rule has been determined to be not significant for the purposes of Executive Order 12866 and, therefore, has not been reviewed by the Office of Management and Budget.

For this proposed rule, we have prepared an economic analysis. The analysis, which is set out below, provides a cost-benefit analysis, as required by Executive Order 12866, as well as an initial regulatory flexibility analysis that considers the potential economic effects of this proposed rule on small entities, as required by the Regulatory Flexibility Act. Based on the information we have, there is no reason to conclude that adoption of this proposed rule would result in any significant economic effect on a substantial number of small entities. However, we do not currently have all of the data necessary for a comprehensive analysis of the effects of this proposed rule on small entities. Therefore, we are inviting comments on potential effects. In particular, we are interested in determining the number and kind of small entities that may incur benefits or costs from the implementation of this proposed rule.

Reason for the Action

APHIS is responding to a request from the Government of Taiwan to amend the fruits and vegetables regulations to allow the commercial importation of longan with stems from Taiwan into the United States. Longan with stems would be imported under certain conditions that would address risks associated with several pests, including fruit flies. Phytosanitary risks would be mitigated using a systems approach. Import requirements would include requirements for cold treatment, limited distribution with box markings (to address the risk posed by the litchi rust mite), phytosanitary certification of inspection and pest freedom by the national plant protection organization of Taiwan, and special procedures for port-of-arrival inspection. As a signatory to the International Plant Protection Convention, the United States has agreed not to prescribe or adopt any phytosanitary measure concerning the importation of plants, plant products, and other regulated articles unless such measures are made necessary by phytosanitary considerations and are technically justified.

Objectives and Legal Basis for the Proposed Rule

The objective of the proposed rule is to allow the importation of fresh longan with stems from Taiwan. Importation would be allowed on the condition that the fruit is subject to certain import conditions including prohibited distribution into Florida.

Section 319.56 of Title 7, Chapter III of the Code of Federal Regulations sets phytosanitary requirements for the importation of fruits and vegetables into the United States. Section 305.2 of Title 7, Chapter III requires approved phytosanitary treatments. The Plant Protection Act (7 U.S.C. 7701 et seq.) is the statutory basis for parts 305 and 319. It authorizes the Secretary of Agriculture to implement programs and policies designed to prevent the introduction and spread of plant pests and diseases.

Description and Estimate of Small Entities Affected by the Proposed Rule

As background to the discussion of possible effects for small entities, we first consider U.S. and world longan production and current imports by the United States. Production of longan in the United States has trended upward over the past few years. However, U.S. commercial production of longan is limited to Florida and Hawaii. As a rare fruit, longan accounts for a small percentage of the total value of tropical specialty fruit sales. Producers and importers that may be affected by this proposed rule are likely to be small, based on Small Business Administration (SBA) size standards as related to the North American Industry Classification System (NAICS). Further, longan from Taiwan would not be allowed into Florida, and therefore would not directly compete with U.S. producers for sales in that State.

Florida

In 1996, 91 percent of Florida's longan production was located in Miami-Dade County, and the remaining acreage was located in neighboring counties.² There are between 20 and 40 different longan cultivars world-wide, but 99 percent of the Floridian acreage is planted with the “Kohala” cultivar.³ The harvest season can last from July to September, but mainly occurs in August.

² University of Florida, IFAS Extension, “Florida Crop/Pest Management Profile: Lychee and Longan.” Mark Mossler and O. Norman Nesheim. March 2002. http://edis.ifas.ufl.edu/pdffiles/PI/PI05000.pdf.

³ University of Florida, IFAS Extension. “Longan Growing in the Florida Home Landscape.” Jonathan Crane, Carlos Balerdi, Steven Sargent, Ian Maguire. pg. 1. Revised Sept. 2005. http://edis.ifas.ufl.edu/pdffiles/MG/MG04900.pdf.

In 2002, the Florida Agricultural Market Research Center, in combination with the University of Florida Institute of Food and Agricultural Sciences (IFAS), published an agricultural land study. This report states that, in 2001, crop acreage for longan in Miami-Dade County totaled 495 acres, including non-bearing acreage.⁴ Latest estimates are around 850 acres, including acreage that has been planted in Palm Beach County and Lee County.⁵ Revenue reports from 1998 show that 275 acres of the longan fruit crop sold at freight-on-board prices of $3.60 per pound yielding a total value of $8.9 million.⁶ Ninety-five percent of the longan crop was sold outside Miami-Dade County. While the IFAS research does not report the destination of longan leaving the county, demand for the longan as a minor tropical fruit is rather small and geographically limited, with most of the crop sold on the local fresh market.⁷ We are unaware of large-scale commercial shipments of longan by Florida producers. Additionally, we note that the proposed rule would not allow the importation or distribution of commercial shipments of longan with stems from Taiwan into Florida.

⁴ Florida Agricultural Market Research Center, IFAS. Miami-Dade Agricultural Land Retention Study. Summary and Recommendations Vol. 1 Table 13 “Summary of Miami-Dade Tropical Fruit Acreage, 1990-2001.” p. 40. April 2002. http://www.agmarketing.ifas.ufl.edu/dlfiles/Summary.pdf.

⁵ Crane, Jonathan. Tropical Fruit Specialist at the University of Florida IFAS, personal communication, February 29, 2008.

⁶ Florida Agricultural Market Research Center, IFAS. Miami-Dade Agricultural Land Retention Study. Economic Issues Vol 3. p. 4. April 2002. http://www.agmarketing.ifas.ufl.edu/dlfiles/DadeAgLandRetentionAppendixVolumeB.pdf.

⁷ Florida Department of Agriculture and Consumer Services. Charles H. Bronson. Florida Agriculture Statistical Directory. pg. 31. April 1, 2007. http://www.florida-agriculture.com/pubs/pubform/pdf/Florida_Agricultural_Statistical_Directory.pdf.

Hawaii

In 2006, the U.S. Department of Agriculture's National Agricultural Statistics Service (NASS), in cooperation with the Hawaiian Department of Agriculture, reported that there were 65 farms in Hawaii that grew longan. It is possible that these farms grew more than one type of fruit. These Hawaiian farms had a total of 155 acres of longan, 75 of which were harvested. There is no commercial production for canned, dried, or processed longan, as 99 percent of the fruit is sold fresh. Utilized production totaled 190,000 pounds, which was valued at $657,000. Utilized production reported by NASS may be understated by as much as one-fourth because some growers did not participate in the NASS surveys.⁸ A 2007 report shows that the value of sales for longan produced in Hawaii has steadily increased from $147,000 in 2002 to $657,000 in 2006. Longan is now the second most important tropical specialty fruit after mango.⁹ The total value of sales of tropical specialty fruits in Hawaii equaled $2.6 million in 2006.

⁸ Love, Ken. West Hawaii Director for the Hawaii Tropical Growers Association, personal communication, April 15, 2008.

⁹ National Agricultural Statistics Service, Department of Agriculture State of Hawaii. “Hawaii Tropical Specialty Fruits.” Sept. 4, 2007. http://www.nass.usda.gov/hi/fruit/tropfrt.pdf. Includes atemoya, breadfruit, caimito, canistel, cherimoya, durian, jaboticaba, jackfruit, langsat, longan, loquat, litchi, mango, mangosteen, persimmon, poha, rambutan, rollina, sapodilla, soursop, starfruit, and white sapote.

With regard to the distribution of Hawaiian longan, it is estimated that about 40 percent is irradiated and moved to the mainland for sale in metropolitan areas such as Chicago, IL, and San Francisco, CA. The remaining longan is sold within the State at resort hotels, at farmers' markets, or in Honolulu's Chinatown.¹⁰ Hawaii's production and sales are a small but growing part of the fresh longan industry in the United States.

¹⁰ Love, Ken. West Hawaii Director for the Hawaii Tropical Growers Association, personal communication, April 15, 2008.

Taiwan and Other Foreign Production and Exports

Taiwan is a major producer of longan.¹¹ In 2002, Taiwan produced over 242 million pounds of longan, on over 29,000 acres.¹² Most of the fresh longan is domestically consumed. A small amount of longan is exported to other countries, including the United States, as dried, preserved, canned, or fresh. The main cultivar in Taiwan is the “Fengko.”

¹¹ All Asian production and export numbers are converted from hectares and metric tons. 1 MT = 2,204.64 lbs; 1 ha = 2.471 acres.

¹² Yen, C.R. “Longan Production in Taiwan.” ACTA Agriculture Vol. Jan. 2005, No. 665, p. 61-66.

Thailand and China are the frontrunners in longan production and trade. In 2003, Thailand produced around 875 million pounds of longan on over 1.9 million acres.¹³ Of Thailand's total longan exports, about 70 percent is shipped fresh to Hong Kong, Singapore, Malaysia, and China.¹⁴ China has an even larger longan industry. In 2000, China produced 1.3 million pounds on 1.1 million acres.¹⁵ APHIS regulations allow both Thailand and China to export fresh longan fruit with stems into the United States, excluding Florida, under certain conditions.

¹³ Office of Agricultural Economics. Agricultural Statistics of Thailand 2003. Fruit Trees, Table 72: Longan. http://www.oae.go.th/statistic/yearbook/2003/indexe.html.

¹⁴ Anupunt, P. Lychee and Longan Production in Thailand. Acta Horticulture Vol. Jan. 2005. p. 52-59.

¹⁵ Huang, H.B and X. Huang. Lychee and Longan Production in China. Acta Horticulture Vol. Jan. 2005. p. 27-36.

Taiwan may be currently exporting prepared or preserved longan to the United States, but available statistics combine data for litchi and longan; disaggregation of the data is not possible. Foreign Agricultural Service data, for example, show that in 2007, U.S. imports of prepared or preserved litchi/longan from Taiwan totaled 19,600 pounds and were valued at $45,000 (Harmonized Schedule code 2008993500). Thailand and China export much larger volumes of prepared or preserved litchi/longan to the United States: 7.4 million pounds and 2.4 million pounds, respectively, in 2007, with a combined value of $5.1 million (equaling 97 percent of U.S. litchi/longan imports). The percentage share of these litchi/longan imports that were only longan is unknown. Furthermore, quantities of fresh longan with stems imported from China and Thailand are also not known.

The Taiwanese Government estimates that fresh longan exports to the United States would total around 397,000 pounds.¹⁶ Because of data aggregation, we are unable to more fully assess the relative size of projected fresh longan imports from Taiwan, or compare them to the quantities of fresh longan either imported from Thailand and China or produced domestically. We welcome information that would allow us to better understand the U.S. fresh longan market.

¹⁶ Estimates from Taiwan is 180 MT equivalent to 1 MT = 2,204.64 lbs.

Impact on Small Entities

Entities affected by this proposed rule are likely to be small, based on SBA size standards as related to NAICS. Businesses most likely to be affected by this rule would be longan producers, for which the SBA small-entity standard is annual sales of not more than $750,000. Production of longan is classified under NAICS code 111339 (Other Non-Citrus Fruit Farming). In 2006, NASS reported that there were 65 farms in Hawaii that grew longan, and this number has not changed since 2003.¹⁷ The Tropical Fruit Growers of South Florida lists 25 members that sell longan from their farms.¹⁸ A University of Florida publication from 2004 also lists four nurseries selling longan plants.¹⁹ The 2002 Census of Agriculture shows that approximately 95 percent of fruit and nut tree farmers (NAICS 1113) in the United States had sales that year of under $500,000. It is reasonable to assume that most, if not all, longan producers in the United States are small entities.

¹⁷ National Agricultural Statistics Service, Department of Agriculture State of Hawaii. “Hawaii Tropical Specialty Fruits.” Sept 4, 2007. http://www.nass.usda.gov/hi/fruit/tropfrt.pdf.

¹⁸ Tropical Fruit Growers of South Florida. Buy Fruit and Trees—TFGSF Directory of Members. 2007. http://www.tropicalfruitgrowers.com/buy.htm#longan.

¹⁹ University of Florida. IFAS Extension. “Nursery List for Tropical Fruit Trees.” Andrew Rose and Jeanne Ethridge. pg. 21, Table 44. Revised Oct. 2004. http://edis.ifas.ufl.edu/pdffiles/CN/CN00800.pdf.

Some importers of longan could be affected by the proposed rule as well. These industries and their small-entity size standards are: Fresh fruit and vegetable wholesalers (NAICS 424480, not more than 100 employees), wholesalers and other grocery stores (NAICS 445110, not more than $23 million in annual receipts), warehouse clubs and superstores (NAICS 452910, not more than $23 million in annual receipts) and fruit and vegetable markets (NAICS 445230, not more than $6 million in annual receipts). As with producers, it is likely that affected longan importers would be predominantly small entities.

Fresh longan fruit with stems is currently admissible from other countries besides China and Thailand, including the Bahamas, Bermuda, Dominican Republic, Haiti, and Jamaica. Allowing Taiwan to export fresh longan with stems to the United States is not expected to have any significant effect on APHIS program operations, since longan is currently imported from these various other regions subject to similar conditions.

In sum, the quantity of fresh longan with stems projected to be exported from Taiwan to the United States is probably small compared to current import levels from other countries. However, because trade data for prepared or preserved fruit combine longan with litchi, actual prepared or preserved longan quantities imported by the United States are not known. Moreover, the market for fresh longan is distinct from the market for prepared or preserved longan, and trade data on fresh longan imports are not available. It is likely that imports from Taiwan would at least partially substitute for imports from countries such as China and Thailand. Longan from Taiwan would not be allowed into Florida, and therefore would not directly compete with U.S. producers for sales in that State.

U.S. producers of longan are predominantly small entities and operate primarily in Hawaii and southern Florida; there are relatively few producers, and the number of harvested acres is relatively small. Some domestic import firms may benefit from any additional trade that results from the proposed rule. We welcome information that would enable us to better understand potential effects of this proposed rule on U.S. small entities.

Reporting, Recordkeeping, and Other Compliance Requirements for Small Entities

The proposed rule would not result in U.S. entities being subject to reporting, recordkeeping, or other compliance requirements other than, for importers, the records normally required of brokerage firms and other import businesses. Phytosanitary certification and fulfillment of related import conditions would be the responsibility of the exporting party and are discussed below under the heading “Paperwork Reduction Act.”

Alternatives

APHIS does not expect the proposed rule to result in significant economic impacts for small entities, and therefore has not set forth alternatives that would aim at minimizing any such impacts.

Executive Order 12988

This proposed rule would allow commercial shipments of fresh longan with stems from Taiwan into the United States. If this proposed rule is adopted, State and local laws and regulations regarding longan imported under this rule would be preempted while the fruit is in foreign commerce. Fresh fruits are generally imported for immediate distribution and sale to the consuming public and would remain in foreign commerce until sold to the ultimate consumer. The question of when foreign commerce ceases in other cases must be addressed on a case-by-case basis. If this proposed rule is adopted, no retroactive effect will be given to this rule, and this rule will not require administrative proceedings before parties may file suit in court challenging this rule.

Paperwork Reduction Act

In accordance with section 3507(d) of the Paperwork Reduction Act of 1995 (44 U.S.C. 3501 et seq.), the information collection or recordkeeping requirements included in this proposed rule have been submitted for approval to the Office of Management and Budget (OMB). Please send written comments to the Office of Information and Regulatory Affairs, OMB, Attention: Desk Officer for APHIS, Washington, DC 20503. Please state that your comments refer to Docket No. APHIS-2007-0161. Please send a copy of your comments to: (1) Docket No. APHIS-2007-0161, Regulatory Analysis and Development, PPD, APHIS, Station 3A-03.8, 4700 River Road Unit 118, Riverdale, MD 20737-1238, and (2) Clearance Officer, OCIO, USDA, room 404-W, 14th Street and Independence Avenue, SW., Washington, DC 20250. A comment to OMB is best assured of having its full effect if OMB receives it within 30 days of publication of this proposed rule.

The United States Department of Agriculture is responsible for preventing plant pests and noxious weeds from entering the United States, preventing the spread of plant disease not widely distributed in the United States, and eradicating imported pest and noxious weeds when eradication is feasible.

Under the Plant Protection Act (7 U.S.C. 7701 et seq.), the Secretary of Agriculture is authorized to carry out operations or measures to detect, eradicate, suppress, control, prevent, or retard the spread of plant pests new to the United States or not known to be widely distributed throughout the United States.

The regulations in “Subpart—Fruits and Vegetables” prohibit or restrict the importation of fruits and vegetables into the United States from certain parts of the world to prevent the introduction and dissemination of plant pests that are new to or not widely distributed within the United States.

APHIS is proposing to allow the importation of commercial shipments of fresh longan with stems from Taiwan into the United States. As a condition of entry, the longan would be subject to cold treatment and special port-of-arrival inspection procedures for certain quarantined pests. In addition, the fruit would have to be accompanied by a phytosanitary certificate stating that the fruit was inspected and found to be free of certain pests, and the individual cartons or boxes in which the longan are shipped would have to be stamped or printed with a statement prohibiting their importation into or distribution in the State of Florida.

Implementing this proposed rule will require respondents to complete documents such as a phytosanitary certificate, recordkeeping, inspection, and the stamping of boxes.

We are soliciting comments from the public (as well as affected agencies) concerning our proposed information collection and recordkeeping requirements. These comments will help us:

(1) Evaluate whether the proposed information collection is necessary for the proper performance of our agency's functions, including whether the information will have practical utility;

(2) Evaluate the accuracy of our estimate of the burden of the proposed information collection, including the validity of the methodology and assumptions used;

(3) Enhance the quality, utility, and clarity of the information to be collected; and

(4) Minimize the burden of the information collection on those who are to respond (such as through the use of appropriate automated, electronic, mechanical, or other technological collection techniques or other forms of information technology; e.g., permitting electronic submission of responses).

Estimate of burden: Public reporting burden for this collection of information is estimated to average 0.0018 hours per response.

Respondents: NPPOs, importers of longan.

Estimated annual number of respondents: 12,004.

Estimated annual number of responses per respondent: 1.0012.

Estimated annual number of responses: 12,018.

Estimated total annual burden on respondents: 22 hours. (Due to averaging, the total annual burden hours may not equal the product of the annual number of responses multiplied by the reporting burden per response.)

Copies of this information collection can be obtained from Mrs. Celeste Sickles, APHIS' Information Collection Coordinator, at (301) 851-2908.

E-Government Act Compliance

The Animal and Plant Health Inspection Service is committed to compliance with the E-Government Act to promote the use of the Internet and other information technologies, to provide increased opportunities for citizen access to Government information and services, and for other purposes. For information pertinent to E-Government Act compliance related to this proposed rule, please contact Mrs. Celeste Sickles, APHIS' Information Collection Coordinator, at (301) 851-2908.

List of Subjects

7 CFR Part 305

Irradiation, Phytosanitary treatment, Plant diseases and pests, Quarantine, Reporting and recordkeeping requirements.

7 CFR Part 319

Coffee, Cotton, Fruits, Imports, Logs, Nursery stock, Plant diseases and pests, Quarantine, Reporting and recordkeeping requirements, Rice, Vegetables.

Accordingly, we propose to amend 7 CFR parts 305 and 319 as follows:

PART 305—PHYTOSANITARY TREATMENTS

1. The authority citation for part 305 continues to read as follows:

Authority: 7 U.S.C. 7701-7772 and 7781-7786; 21 U.S.C. 136 and 136a; 7 CFR 2.22, 2.80, and 371.3.

2. In § 305.2, the table in paragraph (h)(2)(i) is amended by adding, in alphabetical order, under Taiwan, a new entry for longan to read as follows:

§ 305.2 Approved treatments.

* * * * *

(h) * * *

(2) * * *

(i) * * *

Location | Commodity | Pest | Treatment schedule
| * * * * * * *
Taiwan
| * * * * * * *
| Longan | Bactrocera dorsalis, B. cucurbitae, Conopomorpha sinensis | CT T107-h.
| * * * * * * *

* * * * *

3. In § 305.16, the table is amended by revising the entries for treatment schedules T107-h and T107-j to read as follows:

§ 305.16 Cold treatment schedules.

Treatment schedule | Temperature (°F) | Exposure period
| * * * * * * *
T107-h | 33.8 or below | 17 days.
| 34.5 or below | 20 days.
T107-j | 33.8 or below | 15 days.
| 34.5 or below | 18 days.
| * * * * * * *

* * * * *

PART 319—FOREIGN QUARANTINE NOTICES

4. The authority citation for part 319 continues to read as follows:

Authority: 7 U.S.C. 450, 7701-7772, and 7781-7786; 21 U.S.C. 136 and 136a; 7 CFR 2.22, 2.80, and 371.3.

5. Section 319.56-13 is amended as follows:

a. In paragraph (a), the table is amended by adding, in alphabetical order, under Taiwan, a new entry for longan to read as set forth below.

b. By adding a new paragraph (b)(5)(xvii) to read as set forth below.

§ 319.56-13 Fruits and vegetables allowed importation subject to specified conditions.

(a) * * *

Country/locality of origin | Common name | Botanical name | Plant part(s) | Additional requirements
* * * * * * *
Taiwan
* * * * * * *
| Longan | Dimocarpus longan | Fruit and stems | (b)(2)(v), (b)(3), (b)(5)(xv), (b)(5)(xvii).
* * * * * * *

* * * * *

(b) * * *

(5) * * *

(xvii) Must be accompanied by a phytosanitary certificate issued by the national plant protection organization of the exporting country of origin with an additional declaration stating that the fruit is free of Conogethes punctiferalis, Cryptophlebia ombrodelta, and Rhipiphorothrips cruentatus.

* * * * *

Done in Washington, DC, this 3rd day of November 2008.
Kevin Shea,
Acting Administrator, Animal and Plant Health Inspection Service.

[FR Doc. E8-26612 Filed 11-6-08; 8:45 am]

BILLING CODE 3410-34-P